CONSUMER PRODUCT SAFETY COMMISSION

16 CFR Part 1130

Requirements for Consumer Registration of Durable Infant or Toddler Products

AGENCY: Consumer Product Safety Commission.

ACTION: Notice of proposed rulemaking.

SUMMARY: Section 104(d) of the Consumer Product Safety Improvement Act of 2008 (“CPSIA”) requires the United States Consumer Product Safety Commission (“Commission”) to promulgate a final consumer product safety rule requiring each manufacturer of a durable infant or toddler product to: Provide with each product a postage-paid consumer registration form; keep records of consumers who register such products with the manufacturer; and permanently place the manufacturer name and contact information, model name and number, and the date of manufacture on each such product. The Commission is proposing requirements that would fulfill this statutory direction.

DATES: Written comments must be received by September 14, 2009.

ADDRESSES: Submit your comments at http://www.regulations.gov. Follow the on-line instructions for submitting comments. All comments will be posted as received without change, including any personal identifiers or contact information.

FOR FURTHER INFORMATION CONTACT: Patricia M. Pollitzer, Office of the General Counsel, Consumer Product Safety Commission, 4330 East West Highway, Bethesda, MD 20814; telephone (301) 504-7634.

SUPPLEMENTARY INFORMATION:

A. Background

1. The CPSIA

The Consumer Product Safety Improvement Act of 2008 (“CPSIA”, Pub. L. 110-314) was enacted on August 14, 2008. Section 104(d) of the CPSIA requires the U.S. Consumer Product Safety Commission (“Commission”) to promulgate a final consumer product safety rule no later than August 14, 2009 that requires manufacturers of durable infant or toddler products to: (1) Provide with each product a postage-paid consumer registration form; (2) keep records of consumers who register such products with the manufacturer; and (3) permanently place the manufacturer name and contact information, model name and number, and the date of manufacture on each such product. The authority for this registration program is section 16(b) of the Consumer Product Safety Act (“CPSA”), which authorizes the Commission to issue a rule requiring manufacturers obtain and maintain records as necessary to implement the CPSA. 15 U.S.C. 2065(b).

Section 104(d)(2) of the CPSIA sets out certain requirements for registration forms and allows the Commission to prescribe the exact text and format for the registration form. Section 104(d)(3) of the CPSIA specifies recordkeeping and notification requirements. The Commission is issuing this notice of proposed rulemaking (“NPR”) that would set out the requirements stated in the CPSIA and specify the text and format for the required registration forms.

The CPSIA directs the Commission to assess the registration requirements in the future. Section 104(d)(4) of the CPSIA requires the Commission to conduct a study no later than four years from enactment of the CPSIA on the effectiveness of the consumer registration forms required by the CPSIA and whether to expand registration to other children's products. The Commission is to report its findings to appropriate Congressional committees. Section 104(e) of the CPSIA further requires that the Commission, beginning two years after the Commission has issued a rule implementing the registration requirement, regularly review recall notification technology and assess the effectiveness of such technology. In addition, within three years of the CPSIA's enactment, and periodically thereafter, the Commission must transmit a report to appropriate Congressional committees on its assessment of such technology. If, based on that assessment, the Commission determines by rule that a recall notification technology is likely to be as effective or more effective facilitating recalls of durable infant and toddler products, the Commission, pursuant to section 104(e)(2) of the CPSIA, shall submit a report on that determination to appropriate Congressional committees and shall permit its use in lieu of registration forms.

2. Previous Activities Regarding Product Registration

Before the CPSIA's enactment, the Commission staff studied the possibility of requiring registration for some consumer products. In 2001, the Commission considered issuing an advance notice of proposed rulemaking (“ANPR”) concerning the possibility of requiring manufacturers to create and maintain a system for identifying purchasers of certain consumer products in order to notify consumers in the event of a recall. See http://www.cpsc.gov/library/foia/foia01/brief/purchase.pdf. The draft ANPR prepared by the staff discussed the possibility that direct consumer notification could increase the effectiveness of recalls. The draft ANPR also discussed characteristics of product registration cards that might increase the likelihood that consumers would return them. Among the characteristics noted were: a standardized format, minimal information on the form, no marketing or personal information, a clear statement that the purpose of the form is for safety recalls, pre-addressed and postage paid forms, a design that draws attention to the form, pre-printed product and model identification information, ample space for the consumer to provide name and address, and attachment of the form to the product. Many of these characteristics are required explicitly in section 104(d) of the CPSIA.

In developing the proposed rule, the staff drew from its experience with the 2001 draft ANPR and subsequent activities considering how to improve recall effectiveness. The Commission also has held numerous public meetings discussing various aspects of recall effectiveness, including product registration. See http://www.cpsc.gov/businfo/rem_sum1.pdf, http://www.cpsc.gov/businfo/rem_sum2.pdf, http://www.cpsc.gov/businfo/rem_sum3.pdf.

The Commission and staff are aware of, and this proposal has been informed by, the car seat registration program administered by the National Highway Traffic Safety Administration (“NHTSA”). Federal Motor Vehicle Safety Standard No. 213 requires manufacturers of child restraint systems for automobile use to provide a specified registration form with each seat and keep records of these registrants for use in the event of a safety recall of the product. 49 CFR 571.213 S5.8. The Commission's proposed registration form has several similarities to the NHTSA registration form for child restraint systems. When issuing its registration requirement, NHTSA noted that standardizing the text and layout of the registration form increases the likelihood that a purchaser will register the product. 57 FR 41428 (Sep. 10, 1992). A contractor conducted focus groups to evaluate registration forms for child restraint systems. NHTSA noted that participants in the focus groups indicated “they would be most likely to return a pre-addressed, postage-prepaid card with an uncluttered graphic design that clearly and succinctly communicates the benefits of recall registration, differentiates itself from a warranty registration card, and requires minimal time and effort on the participant's part.” Id. The Commission believes that these characteristics are also appropriate for registration forms for durable infant and toddler products.

B. Description of the Proposed Rule

The proposed rule would create a new 16 CFR part 1130 to establish requirements that manufacturers (including importers) of durable infant or toddler products must follow to enable consumers to register these products so that the consumer can be notified directly if the product is the subject of a recall or safety alert.

1. Scope and Definitions—Proposed §§ 1130.1 & 1130.2

Proposed § 1130.1 would explain that part 1130 prescribes requirements for consumer registration of durable infant or toddler products. The proposed requirements would apply to manufacturers (including importers) of durable infant or toddler products. Although section 104(d) of the CPSIA refers only to manufacturers of durable infant and toddler products, the definition of “manufacturer” in the Consumer Product Safety Act includes an importer. 15 U.S.C. 2052(a)(11). Consequently, proposed § 1130.1(b) would explain that the requirements apply to manufacturers, “including importers,” of durable infant or toddler products. Given that “importer” is included in the definition of “manufacturer,” the Commission is interested in comments concerning which party, the importer or a manufacturer (which might also include a foreign manufacturer), should have the primary responsibility for the registration obligations mandated by section 104 of the CPSIA and why. The Commission would also like comments on the practical and economic consequences of any decision as to whether the manufacturer or importer should assume the registration obligations, such as the logistics of an importer inserting a registration card when a product is manufactured overseas or, similarly, the logistics of a foreign manufacturer maintaining a database of registration card information received from consumers in the United States.

However, neither the CPSIA nor the proposed regulation requires the retailer of a durable infant or toddler product to establish or maintain a registration program. The Commission recognizes that, in some instances, a retailer may be the direct importer of a product and/or may be the only contact in the United States. In such circumstances, it may be most effective for the retailer to collect registration information and notify the consumer in the event of a recall or safety alert. While the Commission is not proposing to require retailers of durable infant and toddler products to conduct a registration program, it is considering whether any final rule based on this proposal should expressly allow other parties, such as retailers, distributors or private labelers, to establish and maintain a registration program. The Commission is interested in comments on whether and how it might allow a private labeler or retailer to assume the responsibility to establish and maintain a registration program, particularly when a product is produced by a foreign manufacturer and imported into the United States.

Proposed § 1130.2 would state that the definitions in section 3 of the CPSA apply.

Proposed § 1130.2(a) would define “durable infant or toddler product” in a manner similar to section 104(f) of the CPSIA. The proposed definition would include products that combine multiple functions. The CPSIA provides a broad definition of the term durable infant or toddler product—“a durable product intended for use, or that may be reasonably expected to be used, by children under the age of 5 years”—and then lists twelve specific examples each of which is defined more specifically with reference to the applicable voluntary standard for such products. Products that are not explicitly listed may still be durable infant or toddler products under the definition and may fall within the registration requirement.

The CPSIA does not define “durable,” but Webster's dictionary defines “durable goods” as “goods usable for a relatively long time.” In the economic or financial context, durable goods are generally considered to be ones that have a useful life of three or more years. The Bureau of Economic Analysis, in the Department of Commerce, defines “durable goods” as “Tangible products that can be stored or inventoried and that have an average life of at least three years” (see Bureau of Economic Analysis, Department of Commerce, Glossary definition of “durable goods,” accessed on the Internet at http://www.bea.gov/glossary/glossary.cfm?letter=D on May 20, 2009). The economic opposite term of durable goods is nondurable goods, a category that includes such items as food, clothing, drugs and services. These definitions give some guidance on what would be a durable infant or toddler product. Thus, clothing, blankets, and such textile products would not be considered durable infant or toddler products.

Additional guidance comes from considering the product examples in the statute and the ASTM voluntary standard subcommittees that cover such items. The product list in the statute, though not exclusive, illustrates the types of products covered. Likewise, other products involved in the ASTM voluntary standards committee activity reflect the type of products considered by Commission staff to be durable infant products which include: Children's folding chairs, changing tables, bouncers, infant bath tubs, bed rails and infant slings. Thus, while a changing table is not listed, it is similar to other nursery products, such as cribs and cradles, which are listed, and it is under the same ASTM subcommittee (F15.18) as cribs, toddler beds, play yards, bassinets and cradles. Bed rails are not listed, but they are similar to “gates and other enclosures for confining a child,” an enumerated category. Some other types of products, such as sports equipment, playground equipment, or toys would not appropriately be considered durable infant or toddler products. These are broad categories of products that are not like the nursery-type of products specified in the examples.

The statutory definition leaves uncertainty about which products would be considered durable infant or toddler products. Many products may last three or more years, but that does not necessarily mean that Congress intended them to be considered durable infant or toddler products under this section. An infant sling is not specifically listed and might be considered a textile product. However, it could be considered a type of infant carrier, a category that is listed as a durable infant or toddler product. The Commission is interested in comments on whether the final rule should contain a definitive listing of products requiring registration cards or any other comments that could help to clarify which products are covered by the registration card requirement when the final rule is published.

As discussed above, infant carriers that are used as car seats are already subject to registration requirements issued by NHTSA that are similar to the proposed CPSC registration requirements. The Commission proposes to exempt from this rulemaking car seats that are subject to NHTSA registration requirements.

Proposed § 1130.2(b) and (c) would define “product recall” and “safety alert” respectively.

2. General Requirements—Proposed § 1130.3

Proposed § 1130.3 would establish general requirements for consumer registration. In brief, proposed § 1130.2(a) would require each manufacturer of a durable infant or toddler product to provide consumers with a postage paid consumer registration form with each product; maintain a record of the contact information of consumers who register their products with the manufacturer; and permanently place the manufacturer's name and contact information, model name and number, and the date of manufacture on each durable infant or toddler product. Proposed § 1130.2(a) thus would correspond with the statutory requirements at section 104(d)(1) of the CPSIA.

Proposed § 1130.2(b) would prohibit the manufacturer from using or disseminating the consumer information collected pursuant to these requirements to any other party for any purpose other than notification of the consumer in the event of a product recall or safety alert. This would be consistent with section 104(d)(3) of the CPSIA.

3. Manufacturer and Product Identification on the Product—Proposed § 1130.4

Section 104(d)(1)(c) of the CPSIA requires the manufacturer to permanently place the manufacturer's name and contact information, model name and number, and the date of manufacture on each durable infant or toddler product. Proposed § 1130.4 would repeat this statutory requirement and would further specify that the required information must be in English, legible, and in a location on the product that is conspicuous to the consumer.

Another section of the CPSIA, section 103, requires that, beginning August 14, 2009, all children's products must have tracking labels providing certain identifying information (the manufacturer or private labeler, location and date of production and cohort information) permanently placed on the product. The requirements for tracking labels in section 103 differ from the product identification that section 104 requires for durable infant or toddler products. This raises the question of how a durable infant or toddler product could satisfy these requirements, i.e. does the more specific section 104 identification of the manufacturer on the product obviate the need for the same identification of the manufacturer as part of the section 103 tracking label. The Commission seeks comments on the interplay between the labeling requirements of these two sections given that their requirements differ. Several commenters on the tracking label provision raised the concern that requiring identification of the manufacturer on a tracking label could result in the disclosure of what they considered confidential business information. The Commission requests comments on whether the issue of confidentiality is a concern for the product identification requirement in section 104 of the CPSIA.

4. Requirements for Registration Forms—Proposed § 1130.5

Proposed § 1130.5 would establish the requirements for the registration forms themselves. In brief, proposed § 1130.5 would require registration forms to:

• Comply with specified text and format requirements;

• State all information in English;

• Be attached to the surface of each durable infant or toddler product so that the consumer must notice and handle the form after purchasing the product;

• Include the manufacturer's name, model name and number for the product and the date of manufacture;

• Include an option to register using the Internet; and

• Include a statement that information the consumer provides will only be used to facilitate a recall or safety alert.

With the exception of requiring compliance with particular text and format specifications and requiring that information be in English, the proposed requirements for registration forms are explicitly directed by section 104(d)(2) of the CPSIA. Section 104(d)(2) of the CPSIA also gives the Commission the option of prescribing the text and format for the registration form. The Commission believes that specifying uniform text and format will increase the likelihood that consumers will notice the forms and complete them.

The Commission also believes that it is appropriate to specify that the form be in the English language. This would clarify the language to be used for registration forms when a product is foreign-made. It also would add to the uniformity of the registration forms, increasing the effectiveness of the forms by increasing the likelihood that consumers would notice the forms and associate them with registrations for the purpose of recalls.

5. Format Requirements—Proposed § 1130.6

Proposed § 1130.6 would prescribe the registration form's size and layout. The top portion of the form would be retained by the consumer. It would provide the purpose statement and the manufacturer's contact information.

The lower part of the form, which would be returned to the manufacturer, would be the size of a standard post card, 6 inches wide by 4¼ inches high. It would have blocks for the consumer to provide his/her contact information and have pre-printed product information on one side of the card and the manufacturer's name and mailing address pre-printed on the other side.

Proposed § 1130.6 also would require that the registration form use Arial Black typeface and that the size of the type be at least 12-point for the purpose statement and no less than 10-point for all other information on the form. Typically, 12-point font size is preferred for instructions and long passages. Arial typeface is a commonly used sans serif typeface that presents a bold and sharp letter.

The Commission is proposing to prescribe the formatting for the registration forms. However, another approach would be to allow manufacturers to determine their own formatting. The Commission requests comments on these two approaches.

6. Text Requirements—Proposed § 1130.7

Proposed § 1130.7 would prescribe the registration form's text. It would require the following statement about the purpose of the registration:

PRODUCT REGISTRATION FOR SAFETY ALERT OR RECALL. We will use the information provided on this card to contact you only if there is a safety alert or recall for this product. We will not sell, rent, or share your personal information. To register your product, please complete and mail back this card or visit our online registration at www.WEBSITE NAME.com.

This statement is consistent with sections 104(d)(2)(E) and 104(d)(2)(G) of the CPSIA requiring that the form “include a message explaining the purpose of the registration and designed to encourage consumers to complete the registration” and also that it “include a statement that information provided by the consumer shall not be used for any purpose other than to facilitate a recall of or safety alert regarding that product.” The staff believes that having a uniform message will increase the likelihood that consumers will recognize the form and respond to it. Additionally, based on its experience examining recall effectiveness, the staff believes that a personal appeal to the consumer will increase the likelihood that a consumer will register the product.

Proposed § 1130.7(b) would require that the top of the registration form state the manufacturer's name and contact information, Web site address, product model name and number and manufacture date of the product. This part of the form would be retained by the consumer. The consumer would have the manufacturer's contact information and information identifying the product if needed to contact the manufacturer about any safety-related issues concerning the product. This aspect of the proposed rule goes beyond the explicit requirements of the CPSIA which only requires that the form include the manufacturer's name, model name and number for the product and its date of manufacture. However, the proposed information would complement the requirement in section 104(d)(1)(C) of the CPSIA which requires manufacturers of a durable infant or toddler product to “permanently place the manufacturer name and contact information, model name and number, and the date of manufacture on each durable infant or toddler product.” This will enable consumers to easily locate the information they need to contact the manufacturer. The Commission is interested in comments on whether a consumer would save and refer to the registration card stub rather than look for the contact information on the product itself, particularly for larger and more expensive products such as cribs. The Commission also asks for comments on the practicality of pre-printing a two part registration form—one section for consumers to send back to the manufacturer and the added requirement for another section for consumers to tear off and keep. The Commission is interested in comments on the practical and economic effect of this requirement.

Proposed § 1130.7 also would require blocks for the consumer to provide his/her name, mailing address, telephone number, and e-mail address. Section 104(d)(2)(B) of the CPSIA requires that the form “include space sufficiently large to permit easy, legible recording of all desired information.” The staff reviewed research regarding legible print for reading, and considered uses such as warnings and passport applications. Based on this review, the proposed rule would require that blocks for consumer information be 5 mm wide and 7 mm high. The number of blocks that would be required for the consumer's information is based on the size of the blocks and the size of the postcard.

The proposed rule would require pre-printed product information. As noted above, section 104(d)(2(D) of the CPSIA requires that the form provide the manufacturer's name, model name and number of the product, and the date of manufacture. This information will enable the manufacturer to match the consumer with the product purchased in the event that the product is the subject of a recall or safety alert. The proposed rule would require a rectangular box around the model name, model number, and manufacture date to draw the consumer's attention to the information. The manufacturer could print this information directly on the form or apply a pre-printed label that provides the required information.

7. Requirements for Internet Registration—Proposed § 1130.8

Consistent with section 104(d)(2)(F) of the CPSIA, the proposed rule would require that the consumer have the option of registering the product through the Internet. This could be accomplished by registration through the manufacturer's Web site. However, some companies, particularly smaller ones, may not have a Web site. Rather than the Commission mandating that all companies that sell durable infant and toddler products create and maintain a Web site, such companies could satisfy the statutory requirement by allowing consumers to send their registration information by e-mail. In such case a sentence would need to be added to the registration card indicating that registration could be made by sending an e-mail to the manufacturer. The Commission seeks comments on this approach.

Proposed § 1130.8 would require the same purpose statement (described earlier in part B.6 of this preamble (see the discussion of proposed § 1130.7)) on the Web site registration page as on the registration form. It would restrict the registration page to only requesting the consumer's name, address, telephone number, e-mail address, product name and number and the date of manufacture. The Commission seeks comments on whether there is a need to restrict navigation to other pages or Web sites.

The Commission notes that on-line registration could be designed in a manner that could further increase the effectiveness of product registrations. The on-line registration could be set up to allow consumers to notify the manufacturer of a change of address for products the consumer has previously registered. Such a system could allow sorting by customer name, address, product and model so that a consumer could change his/her address without re-entering other information. The proposed rule would not require such a system, but neither would it prevent manufacturers from designing their on-line registration systems in such a manner.

The Commission intends to encourage innovation in the use of the Internet for product registration and solicits comments on how to make the registration Web site easier for consumers to use and navigate. For example, Web sites could minimize the number of times consumers must enter information, could provide for registration at the time an item is purchased online, or take other approaches that would streamline registration.

8. Recordkeeping and Notification—Proposed § 1130.9

Consistent with section 104(d)(1)(B) of the CPSIA, proposed § 1130.9 would require that each manufacturer of a durable infant or toddler product maintain a record of registrants for each product manufactured that includes all of the information provided by the consumer. The manufacturer would be required to use the information provided to notify the registrant if the product is the subject of a recall or safety alert. The proposed rule would require that the manufacturer maintain a record of the registration information for no less than 6 years after the date of manufacture of the product.

C. Request for Comments

The Commission requests comments on all aspects of this proposal, and specifically seeks comments concerning: What products are included in the definition of durable infant or toddler product; whether the Commission should prescribe the format of the registration cards or allow flexibility; the interplay between the permanent identification marking required to be placed on the product and the tracking label requirement; the party best situated to conduct the registrations (as among the manufacturer, importer, private labeler and retailer); the practical and economic impact of requiring an additional section on the registration form—one section for consumers to mail to the manufacturers and the other section for consumers to keep; allowing the consumer to e-mail registration information as an option; whether requirements on the ease of use and navigation of Web sites are necessary; and appropriateness of the proposed effective date.

D. Effective Date

The Administrative Procedure Act (“APA”) generally requires that the effective date of a rule be at least 30 days after publication of the final rule. Id. 553(d). This is unlikely to be sufficient time for manufacturers to put a registration program in place. Thus, the Commission proposes that a final rule would become effective 180 days after its date of publication in the Federal Register.

E. Regulatory Flexibility Certification

The Regulatory Flexibility Act (“RFA”) generally requires that agencies review proposed rules for their potential economic impact on small entities, including small businesses. However, section 104(d)(1) of the CPSIA removes this requirement for promulgating the rule implementing the CPSIA's consumer registration provision. Consequently no certification is necessary.

F. Paperwork Reduction Act

Section 104(d)(1) of the CPSIA also excludes this rulemaking from requirements of the Paperwork Reduction Act, 44 U.S.C. sections 3501 through 3520. Consequently, no Paperwork Reduction Act analysis is necessary.

G. Environmental Considerations

The Commission's regulations provide a categorical exemption for the Commission's rules from any requirement to prepare an environmental assessment or an environmental impact statement as they “have little or no potential for affecting the human environment.” 16 CFR 1021.5(c)(2). This proposed rule falls within the categorical exemption.

List of Subjects in 16 CFR 1130

Administrative practice and procedure, Business and industry, Consumer protection, Reporting and recordkeeping requirements.

Therefore, the Commission proposes to amend Title 16 of the Code of Federal Regulations by adding part 1130 to read as follows:

PART 1130—REQUIREMENTS FOR CONSUMER REGISTRATION OF DURABLE INFANT OR TODDLER PRODUCTS

Sec.
1130.1 Purpose, scope, and effective date.
1130.2 Definitions.
1130.3 General requirements.
1130.4 Identification on the product.
1130.5 Requirements for registration form.
1130.6 Requirements for format of registration form.
1130.7 Requirements for text of registration form.
1130.8 Requirements for Internet registration.
1130.9 Recordkeeping and notification requirements.

Authority: 15 U.S.C. 2056a, 2065(b).

§ 1130.1 Purpose, scope, and effective date.

(a) Purpose. This part prescribes a consumer product safety rule establishing requirements for consumer registration of durable infant or toddler products. These requirements are intended to improve the effectiveness of recalls of, and safety alerts regarding, such products.

(b) Scope. Part 1130 applies to manufacturers, including importers, of durable infant or toddler products, as defined in § 1130.2(a). It does not apply to infant or child carriers intended for use in automobiles that are covered by the registration program of the National Highway Traffic and Safety Administration at 49 CFR 571.213.

(c) Effective date. The requirements of this part 1130 shall become effective on [180 days after publication of a final rule] and shall apply to durable infant or toddler products manufactured on or after that date.

§ 1130.2 Definitions.

In addition to the definitions given in section 3 of the Consumer Product Safety Act (15 U.S.C. 2052), the following definitions apply:

(a) Durable infant or toddler product means a durable product intended for use, or that may be reasonably expected to be used, by children under the age of 5 years; and includes, but is not limited to, individual and combinations of:

(1) Full-size cribs and non-full-size cribs;

(2) Toddler beds;

(3) High chairs, booster seats, and hook-on chairs;

(4) Bath seats;

(5) Gates and other enclosures for confining a child;

(6) Play yards;

(7) Stationary activity centers;

(8) Infant carriers;

(9) Strollers;

(10) Walkers;

(11) Swings; and

(12) Bassinets and cradles.

(b) Product recall means action taken pursuant to sections 12, 15(c) or 15(d) of the CPSA (15 U.S.C. 2061,2054(c), or 2064(d)), and action taken pursuant to a corrective action plan implemented by a company in cooperation with the Commission, where the firm is conducting one or more of the following: repair of the product; replacement of the product; or refund of the purchase price of the product.

(c) Safety alert means notice or warning of a potential problem with an individual or class of products so that consumers and other users of the affected products respond accordingly to reduce or eliminate the potential for injury.

§ 1130.3 General requirements.

(a) Each manufacturer of a durable infant or toddler product shall:

(1) Provide consumers with a postage-paid consumer registration form that meets the requirements of this part 1130 with each such product;

(2) Maintain a record in accordance with the requirements set forth in § 1130.9 of the contact information (names, addresses, e-mail addresses, and telephone numbers) of consumers who register their products with the manufacturer under this part 1130;

(3) Permanently place the manufacturer name and contact information, model name and number, and the date of manufacture on each durable infant or toddler product in accordance with the requirements set forth in § 1130.4.

(b) Consumer information collected by a manufacturer pursuant to the requirements of this part 1130 shall not be used by the manufacturer, nor disseminated by the manufacturer to any other party, for any purpose other than notification to such consumer in the event of a product recall or safety alert.

§ 1130.4 Identification on the product.

(a) Each durable infant or toddler product shall be permanently marked with the manufacturer name, and contact information (U.S. address and telephone number, toll free if available) model name and number, and date of manufacture.

(b) The information required by this section shall be in English, legible, and in a location that is conspicuous to the consumer.

§ 1130.5 Requirements for registration forms.

The registration form required under § 1130.3(a)(1) shall:

(a) Comply with the format and text requirements set forth in §§ 1130.6 and 1130.7 as shown in figures 1 and 2 of this part;

(b) State all information required by this part 1130 in the English language;

(c) Be attached to the surface of each durable infant or toddler product so that, as a practical matter, the consumer must notice and handle the form after purchasing the product;

(d) Include the manufacturer's name, model name and number for the product, and the date of manufacture;

(e) Include an option for consumers to register through the Internet;

(f) Include the statement required in § 1130.7(a) that information provided by the consumer shall not be used for any purpose other than to facilitate a recall of or safety alert regarding that product.

§ 1130.6 Requirements for format of registration forms.

(a) Size of form. The form shall be the size of a standard post card, 6 inches wide by 4¼ inches high.

(b) Layout of form. (1) General. The form shall consist of four parts: top and bottom, divided by perforations for easy separation, and front and back.

(2) Top of form. The top portion of the form is to be retained by the consumer. The front top portion shall provide the purpose statement set forth in § 1130.7(a). The back of the top portion shall provide the manufacturer's contact information as required in § 1130.7(b).

(3) Bottom of form. The bottom portion of the form is to be returned to the manufacturer. The bottom front panel shall have blocks for the consumer to provide his/her contact information as required in § 1130.7(c). Below the consumer contact information shall be product information as required in § 1130.7(d) which may be printed on the form or provided on a pre-printed label placed on the form by the manufacturer. The back of the bottom portion of the form shall be pre-addressed with the manufacturer's name and mailing address where registration information is to be collected.

(c) Font size and typeface. The registration form shall use Arial Black typeface. The size of the type shall be at least 12-point for the purpose statement required in § 1130.7(a) and no less than 10-point for the other information in the registration form.

§ 1130.7 Requirements for text of registration form.

(a) Purpose statement. The front top portion of each form shall state: “PRODUCT REGISTRATION FOR SAFETY ALERT OR RECALL. We will use the information provided on this card to contact you only if there is a safety alert or recall for this product. We will not sell, rent, or share your personal information. To register your product, please complete and mail back this card or visit our online registration at www.WEBSITE NAME.com.”

(b) Manufacturer and product information. The back of the top portion of the form shall state the manufacturer's name and contact information (a U.S. mailing address, a telephone number, toll free if available), Web site address, product model name and number, and manufacture date of the product.

(c) Consumer information. The bottom front portion of the form shall have blocks for the consumer to provide his/her name, address, telephone number, and e-mail address. These blocks shall be 5 mm wide and 7 mm high. There shall be at least 23 blocks on each of two lines for name and mailing address. At least 15 blocks shall be provided for the city, 2 blocks for the State and 5 blocks for the zip code or postal code. There shall be 10 blocks for the telephone number with a dash provided after the place for the area code and between the third and fourth blocks for the rest of the number, and at least 29 blocks for the e-mail address.

(d) Product information. The following product information shall be provided on the back of the bottom portion of the form below the blocks for customer information printed directly on the form or on a pre-printed label that is applied to the form: the manufacturer's name, the model name and number, and the date of manufacture of the product. A rectangular box shall be placed around the model name, model number and manufacture date.

§ 1130.8 Requirements for Web site registration.

(a) Link to registration page. The manufacturer's Web site, or other Web site established for the purpose of registration under this part 1130, shall be designed with a link clearly identified on the main Web page that goes directly to “Product Registration.”

(b) Purpose statement. The registration page shall have the following statement at the top of the page: “PRODUCT REGISTRATION FOR SAFETY ALERT OR RECALL ONLY. We will use the information provided on this page only to contact you if there is a safety alert or recall for this product. We will not sell, rent, or share your personal information. If you register on this Web site you do not need to fill out the card that came with your product.”

(c) Content of registration page. The Web site registration page shall request only the consumer's name, address, telephone number, e-mail address, product model name and number, and the date of manufacture. The consumer's telephone number and e-mail address shall not be required for the consumer to submit the registration form.

§ 1130.9 Recordkeeping and notification requirements.

(a) Each manufacturer of a durable infant or toddler product shall maintain a record of registrants for each product manufactured that includes all of the information provided by each consumer registered.

(b) Each manufacturer of a durable infant or toddler product shall use the information provided by the registrant to notify the registrant in the event of a voluntary or involuntary recall of, or safety alert regarding, such product.

(c) Each manufacturer of a durable infant or toddler product shall maintain a record of the information provided by the registrant for a period of not less than 6 years after the date of manufacture of the product.

BILLING CODE 6355-01-P

Dated: June 23, 2009.
Todd Stevenson,
Secretary, U.S. Consumer Product Safety Commission.

[FR Doc. E9-15242 Filed 6-26-09; 8:45 am]

BILLING CODE 6355-01-C